ENVIRONMENTAL PROTECTION AGENCY

40 CFR Part 52

[EPA-R09-OAR-2014-0586, FRL-9918-57-Region-9]

Approval and Promulgation of State Implementation Plans; California; Regional Haze Progress Report; Extension of Comment Period

AGENCY: Environmental Protection Agency.

ACTION: Proposed rule; extension of comment period.

SUMMARY: The Environmental Protection Agency (EPA) is extending the public comment period for a proposed rule titled “Approval and Promulgation of State Implementation Plans; California; Regional Haze Progress Report,” which was published in the Federal Register on September 29, 2014. The new deadline of November 28, 2014, will provide an additional 30 days for a total of 60 days to comment on our proposal.

DATES: Comments on the proposed rule published on September 29, 2014 (79 FR 58302) must be received on or before November 28, 2014.

ADDRESSES: You may submit comments, identified by Docket ID No. EPA-R09-OAR-2014-0586, by one of the following methods:

• Federal Rulemaking portal: http://www.regulations.gov. Follow the on-line instructions for submitting comments.

• Email: webb.thomas@epa.gov.

• Fax: 415-947-3579 (Attention: Thomas Webb).

• Mail, Hand Delivery, or Courier: Thomas Webb, EPA Region 9, Air Division (AIR-2), 75 Hawthorne Street, San Francisco, California 94105. Hand and courier deliveries are only accepted Monday through Friday, 8:30 a.m. to 4:30 p.m., excluding Federal holidays. Special arrangements should be made for deliveries of boxed information.

FOR FURTHER INFORMATION CONTACT: Thomas Webb, U.S. EPA, Region 9, Planning Office, Air Division, AIR-2, 75 Hawthorne Street, San Francisco, CA 94105. Thomas Webb may be reached at telephone number (415) 947-4139 and via electronic mail at webb.thomas@epa.gov.

SUPPLEMENTARY INFORMATION: EPA is extending the public comment period for the proposed rule, “Approval and Promulgation of State Implementation Plans; California; Regional Haze Progress Report,” by 30 days. With this extension, the public comment period will end on November 28, 2014, rather than October 29, 2014. The proposal is to approve the California Regional Haze Progress Report in which the State has determined that its existing Regional Haze State Implementation Plan is adequate to meet the visibility goals for 2018, and requires no substantive revision at this time.

Dated: October 20, 2014.
Alexis Strauss,
Acting Regional Administrator, EPA Region 9.

[FR Doc. 2014-25589 Filed 10-27-14; 8:45 am]

BILLING CODE 6560-50-P